DEPARTMENT OF THE INTERIOR

Bureau of Land Management

43 CFR Part 3160

[WO-310-1310-PB-01-24 1A]

RIN 1004-AC54

Oil and Gas Leasing; Onshore Oil and Gas Operations

AGENCY: Bureau of Land Management.

ACTION: Correcting amendment.

SUMMARY: The document contains corrections to the amendatory instructions of the final regulations on protecting Federal and Indian oil and gas resources from drainage published in the Federal Register on January 10, 2001, (66 FR 1883) and delayed on February 8, 2001, (66 FR 9527).

DATES: Effective April 10, 2001.

FOR FURTHER INFORMATION CONTACT: Donnie Shaw, Fluids Minerals Group, Bureau of Land Management, Mail Stop 401LS, 1849 “C” Street, NW., Washington, DC 20240; telephone (202) 452-0382 (Commercial or FTS). Persons who use a telecommunications device for the deaf (TDD) may call the Federal Information Relay Service at 1-800-877-8339, between 8 a.m. and 4 p.m., Eastern time, Monday through Friday, excluding Federal holidays.

SUPPLEMENTARY INFORMATION: We are clarifying the amendatory instructions for the current regulations under Sections 3162.2 and 3165.3. The amendment for Section 3162.2, paragraph (c), indicates that more than one entity may hold interest in a lease or own operating rights.

List of Subjects

43 CFR Part 3160

Government contracts, Hydrocarbons, Land Management Bureau, Mineral royalties, Oil and gas exploration, Public lands-mineral resources, Reporting and recordkeeping requirements.

Dated: May 1, 2001.
Piet deWitt,
Acting Assistant Secretary, Land and Minerals Management.

Accordingly, the Federal Register issue of January 10, 2001 is corrected as follows:

1. On page 1892, in the third column, correct the amendatory instruction 12.b for § 3162.2 to read as follows:

b. Removing in paragraph (c) the phrase “the operating rights owner” and adding in its place the phrase “the lessee(s) and operating rights owner(s)”; (Note: § 3162.2(c) was redesignated as § 3162.2-1(b))

2. On page 1894, in the second column, renumber instructions 13. and 14. as 15. and 16. respectively.

[FR Doc. 01-11877 Filed 5-10-01; 8:45 am]

BILLING CODE 4310-84-M